DEPARTMENT OF COMMERCE

International Trade Administration

[Docket Number: 231208-0290]

RIN 0625-XZ100

Announcing an Importer's Additional Declaration in the Automated Commercial Environment Specific to Antidumping/Countervailing Duty Certifications

AGENCY: Enforcement and Compliance, International Trade Administration, Department of Commerce.

ACTION: General notice.

SUMMARY: The U.S. Department of Commerce (Commerce), in coordination with U.S. Customs and Border Protection (CBP), is announcing a new functionality in the Automated Commercial Environment (ACE) for importers entering merchandise that is the subject of an antidumping and/or countervailing duty (AD/CVD) certification. Specifically, the capability will exist for importers to identify in the ACE entries that are the subject of an AD/CVD certification. Commerce intends to instruct parties to use this new functionality on a case-by-case basis. This new identification mechanism will facilitate Commerce's and CBP's administration of the AD/CVD laws by making such entry summaries more readily identifiable to Commerce and CBP.

DATES: This new functionality will be effective May 2, 2024.

FOR FURTHER INFORMATION CONTACT: For technical questions related to ACE, contact your assigned CBP client representative. Interested parties without an assigned CBP client representative should direct their questions to: gmb.clientrepoutreach@cbp.dhs.gov. For general questions related to the new declaration capability, contact Michael Walsh or Yasmin Bordas, Enforcement and Compliance, International Trade Administration, U.S. Department of Commerce, 1401 Constitution Avenue NW, Washington, DC 20230; email: Michael.Walsh@trade.gov or Yasmin.Bordas@trade.gov, respectively.

SUPPLEMENTARY INFORMATION: This notice announces functionality in ACE for an Importer's Additional Declaration specific AD/CVD certifications. For years, Commerce has used certification requirements as a way for parties to support claims concerning the applicability of an AD/CVD order to merchandise that they are producing, exporting and/or importing.¹ More recently, on September 20, 2021, Commerce published amendments to its existing regulations at 19 CFR part 351 to strengthen and improve the administration and enforcement of the AD/CVD laws.² Included in this final rule is the new regulation at 19 CFR 351.228, which became applicable on October 20, 2021, that codifies and enhances Commerce's existing authority and practice to require certifications by importers and other interested parties as to whether merchandise is subject to an AD/CVD order. Pursuant to 19 CFR 351.228(a)(1)(i)-(iii), the Secretary of Commerce may determine in the context of an AD/CVD proceeding that an importer or other interested party shall “maintain a certification for entries of merchandise into the customs territory of the United States,” “provide a certification by electronic means at the time of entry or entry summary,” or “otherwise demonstrate compliance with a certification requirement as determined by the Secretary, in consultation with the Customs Service.”

¹ See, e.g., Crystalline Silicon Photovoltaic Cells, Whether or Not Assembled Into Modules, from the People's Republic of China: Preliminary Determination of Sales at Less Than Fair Value, Postponement of Final Determination and Affirmative Preliminary Determination of Critical Circumstances, in Part, 77 FR 31309, 31323-24 (May 25, 2012), unchanged in Crystalline Silicon Photovoltaic Cells, Whether or Not Assembled into Modules, from the People's Republic of China: Final Determination of Sales at Less Than Fair Value, and Affirmative Final Determination of Critical Circumstances, in Part, 77 FR 63791 (October 17, 2012), and accompanying Issues and Decision Memorandum at note 33; Certain Cold-Rolled Steel Flat Products from the People's Republic of China: Affirmative Final Determination of Circumvention of the Antidumping Duty and Countervailing Duty Orders, 83 FR 23891, 23892 (May 23, 2018), and accompanying Issues and Decision Memorandum at Comment 4.

² See Regulations To Improve Administration and Enforcement of Antidumping and Countervailing Duty Laws, 86 FR 52300 (September 20, 2021).

Since the time we published this regulation, there is a new reporting functionality in ACE that will allow the importer to enter a specific importer's additional declaration type code, which will be transmitted through the Automated Broker Interface, and indicate that merchandise is being entered into the customs territory of the United States subject to an accompanying AD/CVD certification. ACE will then reflect the indication under the new Importer's Additional Declaration. In light of this new functionality, when the Secretary determines in the context of an AD/CVD proceeding that a certification is required, the Secretary may determine, alone or in conjunction with other requirements, that the importer shall declare that its merchandise is being entered subject to a certification requirement using an additional declaration type code in ACE at the time of entry summary. This code will represent a claim that, for example, the entered merchandise is entitled to a specific company AD and/or CVD rate or, alternatively, a claim that the entered merchandise is not subject to AD and/or CVD order. Use of this increased visibility in ACE will strengthen Commerce's and CBP's enforcement of AD/CVD orders, enabling them to more easily identify merchandise that is being entered subject to an AD/CVD certification. Accordingly, as of the effective date identified above and as determined by the Secretary in a given AD/CVD proceeding, Commerce and CBP may require that importers entering merchandise into customs territory of the United States that is the subject of an AD/CVD certification identify their merchandise as such with the new importer's additional declaration type code submitted at the time of entry summary. The Cargo Systems Messaging Service (CSMS) message announcing this new functionality will provide additional instructions regarding the importer's additional declaration type code.

Dated: January 29, 2024.
Abdelali Elouaradia,
Deputy Assistant Secretary for Enforcement and Compliance.

[FR Doc. 2024-02114 Filed 2-1-24; 8:45 am]

BILLING CODE 3510-DS-P